DEPARTMENT OF LABOR

Bureau of Labor Statistics

Labor Research Advisory Council; Notice of Meetings and Agenda

The Spring meetings of committees of the Labor Research Advisory Council will be held on June 12, 13, and 14. All of the meetings will be held in the Conference Center of the Postal Square Building (PSB), 2 Massachusetts Avenue, NE., Washington, DC.

The Labor Research Advisory Council and its committees advise the Bureau of Labor Statistics with respect to technical matters associated with the Bureau's programs. Membership consists of union research directors and staff members. The schedule and agenda of the meetings are as follows:

Monday, June 12, 2000

9:30 a.m.—Committee on Compensation and Working Conditions—Meeting Room 9, PSB

1. Stock Options Incidence Test—preliminary results

2. Technology interactions with BLS: suggestions, recommendations

3. Other business

4. Topics for next meeting

1:30 p.m.—Committee on Productivity, Technology and Growth—Meeting Room 9, PSB

1. E-commerce and productivity measurement

2. Effects of recent methodological changes on productivity data

3. Overview of current Office of Employment Projections projects

4. Research on the employment impacts of e-commerce

5. Topics for next meeting

Committee on Foreign Labor Statistics

1. International comparisons of Gross Domestic Product (GDP) and productivity

2. Topics for next meeting

Tuesday, June 13, 2000

9:30 a.m.—Committee on Employment and Unemployment Statistics—Meeting Room 7, PSB

1. The household survey-establishment survey employment gap

2. An examination of flexible (alternative) staffing arrangements

3. The Current Employment Statistics probability redesign (initial implementation scheduled for June 2000)

4. Current and planned local area unemployment statistics tabulations on the BLS web site

5. Topics for next meeting

Wednesday, June 14, 2000

9:30 a.m.—Committee on Prices and Living Conditions—Meeting Room 9, PSB

1. Update on program developments

a. Consumer Price Index

b. International Prices

c. Producer Price Indexes

2. Topics for next meeting

1:30 p.m.—Committee on Occupational Safety and Health Statistics—Meeting Room 9, PSB

1. Review of the industry summary data from the 1998 Survey of Occupational Injuries and Illnesses

2. Review of the worker demographics and case circumstances data from the 1998 Survey of Occupational Injuries and Illness

3. Discussion of the analysis of detailed worker and case information from the Survey of Occupational Injuries and Illnesses

4. Impact of revision of the Occupational Safety and Health Administration work injury and illness record keeping requirements on the BLS occupational safety and health statistics program

5. Discussion of study of toxicology data for workers fatally injured during 1998

6. Topics for next meeting

The meetings are open to the public. Persons planning to attend these meetings as observers are requested to contact Wilhelmina Abner on (Area Code 202) 691-5970.

Signed at Washington, DC this 9th day of May 2000.
Katherine G. Abraham,
Commissioner.

[FR Doc. 00-12286 Filed 5-15-00; 8:45 am]

BILLING CODE 4510-24-M